DEPARTMENT OF COMMERCE

International Trade Administration

[A-570-808; A-583-810]

Chrome-Plated Lug Nuts From the People's Republic of China and Taiwan; Final Results of Antidumping Duty Sunset Reviews:

AGENCY: Import Administration, International Trade Administration, Department of Commerce.

ACTION: Notice of final results of antidumping duty sunset reviews: chrome-plated lug nuts from the People's Republic of China and Taiwan.

SUMMARY: On August 2, 1999, the Department of Commerce (“the Department”) published the notice of initiation of sunset reviews of the antidumping duty orders on chrome-plated lug nuts (“lug nuts”) from the People's Republic of China (“China”) and Taiwan. The merchandise covered by these orders are one-piece and two-piece chrome-plated and nickel-plated lug nuts. On the basis of notices of intent to participate and adequate substantive comments filed on behalf of a domestic interested party and inadequate response (in these cases, no response) from respondent interested parties, we determined to conduct expedited reviews. Based on our analysis of the comments received, we find that revocation of the antidumping duty orders would be likely to lead to continuation or recurrence of dumping at the levels listed below in the section entitled “Final Results of Reviews.”

EFFECTIVE DATE: March 6, 2000.

FOR FURTHER INFORMATION CONTACT: Mark D. Young, Import Administration, International Trade Administration, U.S. Department of Commerce, Washington, D.C. 20230; telephone: (202) 482-6397.

SUPPLEMENTARY INFORMATION:

Statute and Regulations

This review is being conducted pursuant to sections 751(c) and 752 of the Tariff Act of 1930, as amended (“the Act”). The Department's procedures for the conduct of sunset reviews are set forth in Procedures for Conducting Five-year (“Sunset”) Reviews of Antidumping and Countervailing Duty Orders, 63 FR 13516 (March 20, 1998) (“Sunset Regulations”) and 19 CFR Part 351 (1999) in general. Guidance on methodological or analytical issues relevant to the Department's conduct of sunset reviews is set forth in the Department's Policy Bulletin 98:3— Policies Regarding the Conduct of Five-year (“Sunset”) Reviews of Antidumping and Countervailing Duty Orders; Policy Bulletin, 63 FR 18871 (April 16, 1998) (“Sunset Policy Bulletin”).

Background

On August 2, 1999, the Department published the notice of initiation of sunset reviews of the antidumping duty orders on lug nuts from China and Taiwan (64 FR 41915). The Department received Notices of Intent to Participate on behalf of Consolidated International Automotive, Inc. (“Consolidated”) on August 17, 1999, within the deadline specified in section 351.218(d)(1)(i) of the Sunset Regulations. Consolidated claimed interested party status under section 771(9)(C) of the Act, as U.S. manufacturers of lug nuts. We received a complete substantive response, in both the Chinese and Taiwanese reviews, from Consolidated on September 1, 1999, within the 30-day deadline specified in the Sunset Regulations under section 351.218(d)(3)(i). In its substantive responses, Consolidated stated that it was the petitioner in the original investigations of lug nuts from China and Taiwan. Furthermore, Consolidated stated that it had participated in all phases of the investigation and administrative reviews and in the scope proceedings of lug nuts from China and Taiwan. We did not receive a substantive response from any respondent interested party to these proceedings. As a result, pursuant to 19 CFR 351.218(e)(1)(ii)(C), the Department determined to conduct expedited, 120-day, reviews of these orders.

In accordance with section 751(c)(5)(C)(v) of the Act, the Department may treat a review as extraordinarily complicated if it is a review of a transition order (i.e., an order in effect on January 1, 1995). The reviews at issue concern transition orders within the meaning of section 751(c)(6)(C)(ii) of the Act. Therefore, the Department determined that the sunset reviews of the antidumping duty orders on lug nuts from China and Taiwan are extraordinarily complicated and extended the time limit for completion of the final results of these reviews until not later than February 28, 2000, in accordance with section 751(c)(5)(B) of the Act.¹

¹ See Extension of Time Limit for Final Results of Five-Year Reviews, 64 FR 62167 (November 16, 1999).

Scope of Review

The products covered by these reviews are one-piece and two-piece chrome-plated and nickel-plated lug nuts from China and Taiwan. The subject merchandise includes chrome-plated and nickel-plated lug nuts, finished or unfinished, which are more than 11/16 inches (17.45 millimeters) in height and which have a hexagonal size of at least 3/4 inches (19.05 millimeters) but not over one inch (25.4 millimeters), plus or minus 1/16 of an inch (1.59 millimeters). The term “unfinished” refers to unplated and/or unassembled chrome-plated lug nuts. The subject merchandise is used for securing wheels to cars, vans, trucks, utility vehicles, and trailers. Excluded from the orders are zinc-plated lug nuts, finished or unfinished, stainless steel capped lug nuts, and chrome-plated lock nuts. The merchandise under review is currently classifiable under item 7318.16.00 of the Harmonized Tariff Schedule of the United States (“HTSUS”). Although the HTSUS subheading is provided for convenience and customs purposes, the written description of the subject merchandise remains dispositive.

The Department has made several scope rulings on the subject merchandise from China and Taiwan. The following products were determined to be within the scope of the order:

Product within scope | Importer | Citation
Certain hex size nuts | Consolidated International | 59 FR 54888.
Certain nickel-plated lug nuts | Consolidated International Automotive, Inc | 62 FR 9176.
Imported zinc-plated lug nuts which are chrome-plated in the United States | Wheel Plus, Inc | 63 FR 59544.

These reviews cover all imports from all manufacturers and exporters of lug nuts from China and Taiwan.

Analysis of Comments Received

All issues raised in these cases by parties to these sunset reviews are addressed in the “Issues and Decision Memorandum” (“Decision Memo”) from Jeffrey A. May, Director, Office of Policy, Import Administration, to Joseph A. Spetrini, Acting Assistant Secretary for Import Administration, dated February 28, 2000 which is hereby adopted and incorporated by reference into this notice. The issues discussed in the attached Decision Memo include the likelihood of continuation or recurrence of dumping and the magnitude of the margin likely to prevail were the orders revoked. Parties can find a complete discussion of all issues raised in these reviews and the corresponding recommendations in this public memorandum which is on file in B-099.

In addition, a complete version of the Decision Memo can be accessed directly on the Web at www.ita.doc.gov/import_admin/records/frn/, under the heading “China PRC” and “Taiwan.” The paper copy and electronic version of the Decision Memorandum are identical in content.

Final Results of Reviews

We determine that revocation of the antidumping duty orders on lug nuts from China and Taiwan would be likely to lead to continuation or recurrence of dumping at the following percentage weighted-average margins:

| Margin (percent)
Chinese Manufacturers/Exporters:
China National Machinery and Equipment Import and Export Corporation, Jiangsu Company Ltd | 42.42
All Others | 42.42
Taiwanese Manufacturers/Exporters:
Gourmet Equipment (Taiwan) Corp | 6.47
San Shing Hardware Works Co., Ltd | 10.67
All Others | 6.93

This notice also serves as the only reminder to parties subject to administrative protective orders (“APO”) of their responsibility concerning the return or destruction of proprietary information disclosed under APO in accordance with 19 CFR 351.305 or conversion to judicial protective order is hereby requested. Failure to comply with the regulations and terms of an APO is a violation which is subject to sanction.

We are issuing and publishing this determination and notice in accordance with sections section 751(c), 752, and 777(i)(1) of the Act.

Dated: February 28, 2000.
Joseph A. Spetrini,
Acting Assistant Secretary for Import Administration.

[FR Doc. 00-5368 Filed 3-3-00; 8:45 am]

BILLING CODE 3510-DS-P